FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency makes the final determinations listed below of modified base flood elevations for each community listed. These modified elevations have been published in newspapers of local circulation and ninety (90) days have elapsed since that publication. The Acting Executive Associate Director has resolved any appeals resulting from this notification.

The modified base flood elevations are not listed for each community in this notice. However, this rule includes the address of the Chief Executive Officer of the community where the modified base flood elevation determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act

This rule is categorically excluded from the requirements of 44 CFR part 10, Environmental Consideration. No environmental impact assessment has been prepared.

Regulatory Flexibility Act

The Acting Executive Associate Director, Mitigation Directorate, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, floodplains, reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Florida:
Lee (FEMA Docket No. D-7517) | Unincorporated Areas | September 27, 2001, October 4, 2001, News-Press | Mr. Doug St. Cerny, Chairman of the Lee County Board of County Commissioners, P.O. Box 398, Fort Myers, Florida 33902 | Sept. 20, 2001 | 125124 B
Leon (FEMA Docket No. D-7517) | City of Tallahassee | September 28, 2001, October 5, 2001, Tallahassee Democrat | The Honorable Scott Maddox, Mayor of the City of Tallahassee, 300 South Adams Street, Tallahassee, Florida 32301-1731 | Jan. 4, 2002 | 120144 D
Georgia:
Bibb and Jones (FEMA Docket No. D-7517) | City of Macon | September 25, 2001, October 4, 2001, The Macon Telegraph | The Honorable Jack Ellis, Mayor of the City of Macon, 700 Poplar Street, Macon, Georgia 31201 | Jan. 1, 2002 | 130011 E
Gwinnett (FEMA Docket No. D-7515) | Unincorporated Areas | August 23, 2001, August 30, 2001, Gwinnett Daily Post | Mr. Wayne Hill, Chairman of the Gwinnett County Board of Commissioners, Justice and Administration Center, 75 Langley Drive, Lawrenceville, Georgia 30045 | Nov. 29, 2001 | 130322 C
Gwinnett (FEMA Docket No. D-7517) | Unincorporated Areas | September 27, 2001, October 4, 2001, Gwinnett Daily Post | Mr. Wayne Hill, Chairman of the Gwinnett County Board of Commissioners, Justice and Administration Center, 75 Langley Drive, Lawrenceville, Georgia 30045 | Sept. 20, 2001 | 130322 B&C
Kentucky: Whitley (FEMA Docket No. D-7515) | City of Williamsburg | August 17, 2001, August 24, 2001, Times Tribune | The Honorable Bill Nighbert, Mayor of the City of Williamsburg, P.O. Box 119, Williamsburg, Kentucky 40769 | Aug. 10, 2001 | 210228 B
Maine:
York (FEMA Docket No. D-7517) | Town of Alfred | September 27, 2001, October 4, 2001, The Sanford News | Mr. Perley Yeaton, Chairperson of the Board of Selectmen for the Town of Alfred, P.O. Box 667, Alfred, Maine 04002 | Sept. 19, 2001 | 230191C
Knox (FEMA Docket No. D-7517) | Town of St. George | October 18, 2001, October 25, 2001, Courier-Gazette | Mr. John Falla, St. George Town Manager, P.O. Box 131, Tenants Harbor, Maine 04860 | Oct. 12, 2001 | 230229 C
Michigan: Wayne (FEMA Docket No. D-7517) | Township of Canton | October 18, 2001, October 25, 2001, The Observer & Eccentric | Mr. Thomas J. Yack, Township of Canton Supervisor, 1150 South Canton Center Road, Canton, Michigan 48188 | Jan. 24, 2002 | 260219 B
North Carolina: Gaston (FEMA Docket No. D-7515) | City of Gastonia | August 29, 2001, September 5, 2001, The Gaston Gazette | Mayor of the City of Gastonia, P.O. Box 1748, 181 South Street, Gastonia, North Carolina 28053-1748 | Dec. 5, 2001 | 370100D
Ohio: Warren (FEMA Docket No. D-7517) | City of Mason | September 5, 2001, September 12, 2001, Pulse-Journal | The Honorable John McCurley, Mayor of the City of Mason, 202 West Main Street, Mason, Ohio 45040 | Aug. 30, 2001 | 390559 C
Puerto Rico:
(FEMA Docket No. D-7517) | Commonwealth | October 5, 2001, October 12, 2001, The San Juan Star | The Honorable Sila Maria Calderon, Governor of the Commonwealth of Puerto Rico, P.O. Box 82, La Fortaleza, San Juan, Puerto Rico 00901 | Jan. 11, 2002 | 720000 D
(FEMA Docket No. D-7517) | Commonwealth | October 12, 2001, October 19, 2001, San Juan Star | The Honorable Sila Maria Calderon, Governor of the Commonwealth of Puerto Rico, P.O. Box 82, La Fortaleza, San Juan, Puerto Rico 00901 | Jan. 18, 2002 | 720000 B&C
South Carolina:
Florence (FEMA Docket No. D-7517) | Unincorporated Areas | September 5, 2001, September 12, 2001, The News Journal | Mr. Joe King, Florence County Administrator, 180 North Irby Street MSC-G, Florence, South Carolina 29501 | Dec. 12, 2001 | 450076 B
Florence (FEMA Docket No. D-7517) | City of Lake City | September 5, 2001, September 12, 2001, The News Journal | Mr. George Simmons, Lake City Administrator, 202 Kelly Street, Lake City, South Carolina 29560 | Dec. 12, 2001 | 450079 C
Lexington (FEMA Docket No. D-7515) | Unincorporated Areas | August 20, 2001, August 27, 2001, The State | Mr. Bruce Rucker, Lexington County Council Chairman, 212 South Lake Drive, Lexington, South Carolina 29072 | Aug. 13, 2001 | 450129D
Tennessee: Sullivan (FEMA Docket No. D-7515) | Town of Kingsport | August 23, 2001, August 30, 2001, Kingsport Times | The Honorable Jeanette Blazier, Mayor of the City of Kingsport, 225 West Center Street, City Hall, Kingsport, Tennessee 37660-4237 | Aug. 16, 2001 | 470184D
Virginia: Fauquier (FEMA Docket No. D-7517) | Unincorporated Areas | October 18, 2001, October 25, 2001 Fauquier Citizen | Mr. G. Robert Lee, Fauquier County Administrator, 40 Culpeper Street, Warrenton, Virginia 20186 | Jan. 24, 2002 | 510055 A

(Catalog of Federal Domestic Assistance No. 83.100, “Flood Insurance.”)
Dated: March 5, 2002.
Robert F. Shea,
Acting Administrator, Federal Insurance and Mitigation Administration.

[FR Doc. 02-5834 Filed 3-11-02; 8:45 am]

BILLING CODE 6718-04-P